DEPARTMENT OF JUSTICE

Notice of Lodging of Consent Decree Under the Clean Air Act

Notice is hereby given that on May 10, 2010, a proposed Consent Decree (“Decree”) in United States v. The Pep Boys—Manny, Moe & Jack, and Baja, Inc., Civil Action No. 10-cv-00745, was lodged with the United States District Court for the District of Columbia.

In this action the United States, on behalf of the U.S. Environmental Protection Agency (“U.S. EPA”), sought penalties and injunctive relief under the Clean Air Act (“CAA”) against The Pep Boys—Manny, Moe & Jack, and Baja, Inc., for violations of the mobile source provisions of the CAA. The Complaint alleges that between 2004 and March 2009, Defendants imported all-terrain vehicles, motorcycles, and generators from the Peoples' Republic of China in violation of the emissions certification, warranty, and labeling requirements of Title II of the CAA, Sections 204, 205 and 213, 42 U.S.C. 7523, 7524, and 7547, and the regulations promulgated thereunder, pertaining to highway motorcycles, recreational vehicles, and nonroad engines. The Complaint alleges approximately 363,000 violations, involving approximately 241,000 vehicles and engines.

Under the proposed Consent Decree, the Defendants will pay a civil penalty, export (or destroy) certain equipment that was previously seized by U.S. Customs and Border Protection, implement future corporate compliance plans, offer an Extended Emission-Related Warranty and Repair Reimbursement Program free to consumers, and offset the alleged illegal emissions through various programs.

The Department of Justice will receive for a period of thirty (30) days from the date of this publication comments relating to the Decree. Comments should be addressed to the Assistant Attorney General, Environment and Natural Resources Division, P.O. Box 7611, U.S. Department of Justice, Washington, DC 20044-7611, and either e-mailed to pubcomment-ees.enrd@usdoj.gov or mailed to P.O. Box 7611, U.S. Department of Justice, Washington, DC 20044-7611, and should refer to United States v. The Pep Boys—Manny, Moe & Jack, and Baja, Inc., Civil Action No. 10-cv-00745, (D.D.C.), D.J. Ref. 90-5-2-1-09240.

The Decree may be examined at U.S. EPA, Region 3, 1650 Arch Street, Philadelphia, PA 19103. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $34 (25 cents per page reproduction cost) payable to the U.S. Treasury or, if by email or fax, forward a check in that amount to the Consent Decree Library at the stated address.

Maureen Katz,
Assistant Chief, Environmental Enforcement Section, Environment and Natural Resources Division.

[FR Doc. 2010-11666 Filed 5-14-10; 8:45 am]

BILLING CODE 4410-15-P